DEPARTMENT OF TRANSPORTATION

Office of the Secretary

Notice of Applications for Certificates of Public Convenience and Necessity and Foreign Air Carrier Permits Filed Under Subpart B (Formerly Subpart Q) During the Week Ending September 2, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-5846.

Date Filed: September 1, 2005.

Due Date for Answers, Conforming Applications, or Motion to Modify Scope: September 22, 2005.

Description: Application of United Air Lines, Inc. to its pending application for renewal and amendment of its experimental certificate of public convenience and necessity for Route 566 (U.S.-Mexico) to include authority to carry persons, property and mail in foreign air transportation between Los Angeles and Cancun as well as authority to integrate this service with other services it is authorized to provide by exemptions and certificates of public convenience and necessity, pursuant to the Department's Notice dated August 23, 2005, In the Matter of Streamlining Regulatory Procedures for Licensing U.S. and Foreign Air Carriers.

Docket Number: OST-2005-22331.

Date Filed: August 31, 2005.

Due Date for Answers, Conforming Applications, or Motion to Modify Scope: September 20, 2005.

Description: Application of American Airlines, Inc., requesting an exemption and a certificate of public convenience and necessity authorizing scheduled foreign air transportation of persons, property, and mail between New York (JFK) and San Jose del Cabo, Mexico.

Docket Number: OST-2005-22390.

Date Filed: September 2, 2005.

Due Date for Answers, Conforming Applications, or Motion to Modify Scope: September 23, 2005.

Description: Application of TUI Airlines Nederland, B.V. requesting a foreign air carrier permit to engage in charter air transportation of persons, property and mail between a point or points in the Netherlands, on the one hand, and a point or points in the United States, on the other hand, either directly or via intermediate points in other countries, and beyond, as authorized by the October 14, 1992 U.S.-Netherlands “Open Skies” Agreement.

Renee V. Wright,
Program Manager, Docket Operations, Federal Register Liaison.

[FR Doc. 05-19342 Filed 9-27-05; 8:45 am]

BILLING CODE 4910-62-P